DEPARTMENT OF AGRICULTURE

Farm Service Agency

Information Collection Request; Biofuel Infrastructure Partnership (BIP) Grants to States

AGENCY: Farm Service Agency, USDA.

ACTION: Notice; request for comments.

SUMMARY: In accordance with the Paperwork Reduction Act of 1995, the Farm Service Agency (FSA) is requesting comments from all interested individuals and organizations on a revision and an extension of a currently approved information collection associated with FSA Biofuel Infrastructure Partnership Grants to States. The FSA Biofuel Infrastructure Partnership (BIP) has collected and used the information to identify applicant States that would be eligible to receive a one-time grant funding opportunity for fuel pumps and related infrastructure, with the goal of encouraging increased ethanol use. Information that BIP is now collecting is needed to monitor BIP grantee implementation and performance of the participating third-party, fueling stations.

DATES: We will consider comments that we receive by December 11, 2018.

ADDRESSES: We invite you to submit comments on this notice. In your comments, include the date, volume, and page number of this issue of the Federal Register, the OMB control number and the title of the information collection request. You may submit comments by any of the following methods:

• Federal eRulemaking Portal: Go to http://www.regulations.gov. Follow the online instructions for submitting comments.

• Mail: Kelly Novak, Program Manager, USDA, Farm Service Agency, Energy Programs Customer Service Section, 1400 Independence Ave. SW, Room 4718, Washington, District of Columbia 20250.

You may also send comments to the Desk Officer for Agriculture, Office of Information and Regulatory Affairs, Office of Management and Budget, Washington, DC 20503. Copies of the information collection may be requested by contacting Kelly Novak at the above address.

FOR FURTHER INFORMATION CONTACT: Kelly Novak, (202) 720-4053. Persons with disabilities who require alternative mean for communication should contact the USDA's TARGET Center at (202) 720-2600 (Voice).

SUPPLEMENTARY INFORMATION:

Title: The Biofuel Infrastructure Partnership Grants to States.

OMB Control Number: 0560-0284.

Expiration Date: March 31, 2019.

Type of Request: Extension with a revision. Collection.

Abstract: This information collection was needed for FSA to identify eligible States for a one-time opportunity for blender pump funding. The goal was to encourage increased ethanol use. FSA required each State interested in a grant to submit an application to FSA with forms specified by FSA. The successfully awarded States were required to report on the funding distribution, which has required third party reporting depending how the States distributed the funds. FSA announced the availability of competitive grants to fund States, the Commonwealth of Puerto Rico, and Washington, DC with respect to activities designed to expand the infrastructure for renewable fuels. The goal was for grantees to provide funds on a one-to-one basis to receive matching CCC funds. The funding has been provided under the authority in section 5(e) of USDA's CCC Charter Act (15 U.S.C. 714c(e)). All tracking from the grantee funding distribution and resultant sale of ethanol/ethanol blended products are reported and retained by FSA. The SF-425, Request for Financial Report, and annual report are the forms FSA supplies to the Grantee State for tracking funding and implementation performance. The burden hours have decreased because there are a fewer grantees submitting annual reporting than anticipated. Mid-year reporting was not required, because reimbursement requesting, and financial reporting was required quarterly in the implementation phase and annual performance reporting will continue through calendar year 2022. In addition, the application process was a one-time opportunity and will not be re-opening; therefore, all application related forms are no longer required.

For the following estimated total annual burden on respondents, the formula used to calculate the total burden hour is the estimated average time per responses hours multiplied by the estimated total annual responses.

Estimate of Burden: Public reporting burden for this information collection is estimated to average 0.302 hours per response.

Type of Respondents: BIP State Government grantees.

Estimated Number of Respondents: 19.

Estimated Annual Number of Responses per Respondent: 1.

Estimated Total Annual Responses. 19.

Estimated Average Time per Response: 0.302 hours.

Estimated Total Annual Burden Hours on Respondents: 109 hours.

We are requesting comments on all aspects of this information collection to help us to:

(1) Evaluate whether the collection of information is necessary for the proper performance of the functions of FSA, including whether the information will have practical utility;

(2) Evaluate the accuracy of FSA's estimate of the burden of the collection of information including the validity of the methodology and assumptions used;

(3) Evaluate the quality, utility, and clarity of the information technology; and

(4) Minimize the burden of the collection of information on those who are respond, including through the use of appropriate automated, electronic, mechanical, or other technological collection techniques or other forms of information technology.

All comments received in response to this notice, including names and addresses where provided, will be made a matter of public record. Comments will be summarized and included in the request for OMB approval of the information collection.

Richard Fordyce,
Administrator, Farm Service Agency.

[FR Doc. 2018-22216 Filed 10-11-18; 8:45 am]

BILLING CODE 3410-05-P